DEPARTMENT OF COMMERCE

International Trade Administration

University of Virginia, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 13-025. Applicant: University of Virginia, Charlottesville, VA 22904-4745. Instrument: Electron Microscope. Manufacturer: FEI Company, the Netherlands. Intended Use: See notice at 78 FR 52760, August 26, 2013.

Docket Number: 13-026. Applicant: Yale University, 850 West Haven, CT 06516. Instrument: Electron Microscope. Manufacturer: JEOL Ltd., Japan. Intended Use: See notice at 78 FR 52760, August 26, 2013.

Docket Number: 13-027. Applicant: United States Army Medical Research Institute of Chemical Defense, Aberdeen Proving Ground, MD 21010-5400. Instrument: Electron Microscope. Manufacturer: JEOL Ltd., Japan. Intended Use: See notice at 78 FR 52760, August 26, 2013.

Docket Number: 13-029. Applicant: Arizona State University, Tempe, AZ 85287-5212. Instrument: Electron Microscope. Manufacturer: FEI Company, the Netherlands. Intended Use: See notice at 78 FR 52760, August 26, 2013.

Docket Number: 13-032. Applicant: Howard Hughes Medical Institute, Chevy Chase, MD 20815. Instrument: Electron Microscope. Manufacturer: FEI Company, Czech Republic. Intended Use: See notice at 78 FR 52760, August 26, 2013.

Docket Number: 13-033. Applicant: University of Pittsburgh School of Medicine, Pittsburgh, PA 15261. Instrument: Electron Microsocpe. Manufacturer: JEOL Ltd., Japan. Intended Use: See notice at 78 FR 52760, August 26, 2013.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: December 17, 2013.
Gregory W. Campbell,
Director, Subsidies Enforcement Office, Enforcement and Compliance.

[FR Doc. 2013-30568 Filed 12-20-13; 8:45 am]

BILLING CODE 3510-DS-P